DEPARTMENT OF THE INTERIOR

Bureau of Ocean Energy Management

[Docket No. BOEM-2022-0053]

Notice of Availability of a Draft Environmental Impact Statement for Empire Offshore Wind, LLC's Proposed Wind Energy Facility Offshore New York

AGENCY: Bureau of Ocean Energy Management (BOEM), Interior.

ACTION: Notice of availability; request for comments.

SUMMARY: BOEM announces the availability of the draft environmental impact statement (DEIS) for the construction and operations plan (COP) submitted by Empire Offshore Wind, LLC (Empire Wind) for its proposed Empire Wind Project (Project) offshore New York. The DEIS analyzes the potential environmental impacts of the Project as described in the COP (the proposed action) and the alternatives to the proposed action. This notice of availability (NOA) announces the start of the public review and comment period, as well as the dates and times for public hearings on the DEIS. After BOEM holds the public hearings and addresses comments provided, BOEM will publish a final environmental impact statement (EIS). The EIS will inform BOEM's decision whether to approve, approve with modifications, or disapprove the COP.

DATES: Comments must be received no later than January 17, 2023. BOEM will conduct three virtual public hearings. BOEM's virtual public hearings will be held at the following times (eastern time).

• Wednesday, December 7, 2022; 5 p.m.

• Tuesday, December 13, 2022; 5 p.m.

• Thursday, December 15, 2022; 1 p.m.

Registration for the virtual public hearings may be completed here: https://www.boem.gov/renewable-energy/state-activities/empire-wind-farm-deis-project-page-virtual-meetings or by calling (703) 787-1520. Registration for the virtual hearings is required. Meeting information will be sent to registrants via their email address provided during registration.

ADDRESSES: The DEIS and detailed information about the Project, including the COP, can be found on BOEM's website at: https://www.boem.gov/renewable-energy/state-activities/empire-wind. Comments can be submitted in any of the following ways:

• Orally or in written form during any of the public hearings identified in this NOA.

• In written form by mail or any other delivery service, enclosed in an envelope labeled “Empire Wind COP DEIS” and addressed to Program Chief, Office of Renewable Energy, Bureau of Ocean Energy Management, 45600 Woodland Road, VAM-OREP, Sterling, VA 20166.

• Through the regulations.gov web portal: Navigate to https://www.regulations.gov and search for Docket No. BOEM-2022-0053. Click on the “Comment” button below the document link. Enter your information and comment, then click “Submit Comment.”

For more information about submitting comments, please see “Information on Submitting Comments” under the SUPPLEMENTARY INFORMATION heading below.

FOR FURTHER INFORMATION CONTACT: Jessica Stromberg, BOEM Office of Renewable Energy Programs, 45600 Woodland Road, VAM-OREP, Sterling, Virginia 20166, (703) 787-1722 or jessica.stromberg@boem.gov.

SUPPLEMENTARY INFORMATION:

Proposed Action: Empire Wind seeks approval to construct, operate, and maintain the Project: two wind energy farms and their associated export cables on the Outer Continental Shelf (OCS) offshore New York. The Project would be developed within the range of design parameters outlined in the Empire Wind COP, subject to applicable mitigation measures. Empire Wind proposes to develop the lease area in two wind farms, known as Empire Wind 1 (EW 1) and Empire Wind 2 (EW 2) (collectively, the Project). EW 1 and EW 2 will be electrically isolated and independent from each other. Empire Wind proposes to construct and operate up to 147 wind turbines and up to 2 offshore substations with 2 cable routes under the terms of Renewable Energy Lease OCS-A 0512. The lease area is located 14 miles from Long Island, New York, and 19.5 miles from Long Branch, New Jersey. The onshore components of the Project will include up to three export cable landfall areas in New York (one for EW 1 and up to two for EW 2) and two onshore substations. The EW 1 onshore substation will be in Brooklyn, New York; and the EW 2 Onshore Substation A in Oceanside, New York, or the EW 2 Onshore Substation C in Island Park, New York.

Alternatives: BOEM considered 30 alternatives when preparing the DEIS and carried forward 7 alternatives for further analysis in the DEIS. These seven alternatives include six action alternatives and a no action alternative. BOEM rejected 23 alternatives because they did not meet the purpose and need for the proposed action or did not meet screening criteria, which are presented in DEIS appendix C. The screening criteria included consistency with law and regulations; technical and economic feasibility; environmental impact; and geographic considerations.

Availability of the DEIS: The DEIS, Empire Wind COP, and associated information are available on BOEM's website at: https://www.boem.gov/renewable-energy/state-activities/empire-wind. BOEM has distributed digital copies of the DEIS to all parties listed in DEIS appendix K, which also includes the location of all libraries receiving a copy. If you need a flash drive or paper copy, BOEM will provide one upon request, as long as copies are available. You may request a flash drive or paper copy of the DEIS by calling (703) 787-1520.

Cooperating Agencies: The following 15 Federal agencies, Tribal Nations, and State and city governmental entities participated as cooperating agencies in the preparation of the DEIS: Bureau of Safety and Environmental Enforcement; U.S. Environmental Protection Agency; National Marine Fisheries Service; U.S. Army Corps of Engineers; U.S. Coast Guard; U.S. Fish and Wildlife Service; Department of Defense; Department of the Navy; Maritime Administration; National Park Service; the Shinnecock Indian Nation; New York State Department of Environmental Conservation; New York State Energy Research & Development Authority; New York State Department of State; and New York City.

Information on Submitting Comments: BOEM does not consider anonymous comments. Please include your name and address as part of your comment. BOEM makes all comments, including the names and addresses of respondents, available for public review online and during regular business hours. Individual respondents may request that BOEM withhold their names, addresses, or any other personal identifiable information (PII) included in their comment from the public record; however, BOEM cannot guarantee that it will be able to do so. If you wish your name, address, or other PII to be withheld, you must state your request prominently in a cover letter and explain the harm that you fear from its disclosure, such as unwarranted privacy invasion, embarrassment, or injury. Even if BOEM withholds your information in the context of this notice, your submission is subject to the Freedom of Information Act (FOIA) and any relevant court orders. If your submission is requested under the FOIA or such court order, your information will only be withheld if a determination is made that one of the FOIA's exemptions to disclosure applies or if such court order is challenged. Such a determination will be made in accordance with the Department's FOIA regulations and applicable law.

Please label privileged or confidential information as “Contains Confidential Information,” and consider submitting such information as a separate attachment. Information that is not labeled as privileged or confidential may be regarded by BOEM as suitable for public release.

All submissions from organizations or businesses and from individuals identifying themselves as representatives or officials of organizations or businesses will be made available for public inspection in their entirety.

Authority: 42 U.S.C. 4231 et seq. (NEPA, as amended) and 40 CFR 1506.6.

Dated: November 11, 2022.
Karen Baker,
Chief, Office of Renewable Energy Programs, Bureau of Ocean Energy Management.

[FR Doc. 2022-25034 Filed 11-17-22; 8:45 am]

BILLING CODE 4340-98-P